DEPARTMENT OF ENERGY

Federal Energy Regulatory Commission

[Docket No. RM96-1-029]

Standards for Business Practices for Interstate Natural Gas Pipelines; Notice Clarifying Implementation Date and Compliance Date

March 11, 2009.

On February 24, 2009, the Commission issued a final rule in the above-captioned proceeding, Order No. 587-T, that incorporated by reference into the Commission's regulations, revisions adopted by the North American Energy Standards Board to the business practices standards for natural gas pipelines. Standards of Business Practices for Interstate Natural Gas Pipelines, 126 FERC ¶ 61,129 (2009). The final rule was published in the Federal Register on March 3, 2009, (74 FR 9162) and became effective April 2, 2009. Under the implementation schedule established in the rule, natural gas pipelines are required to implement the standards on August 1, 2009, and file tariff sheets to reflect the changed standards on June 1, 2009.

Kimberly D. Bose,
Secretary.

[FR Doc. E9-5774 Filed 3-17-09; 8:45 am]

BILLING CODE 6717-01-P